ENVIRONMENTAL PROTECTION AGENCY

[ER-FRL-8998-2]

Environmental Impacts Statements; Notice of Availability

Responsible Agency: Office of Federal Activities, General Information (202) 564-1399 or http://www.epa.gov/compliance/nepa/.

Weekly receipt of Environmental Impact Statements

Filed 07/18/2011 Through 07/22/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110235, Draft EIS, DOE, WA, Klickitat Hatchery Complex Program, Proposed Changes to Production Programs for Four Anadromous Fish Species, Klictitat River Subbasin, Klickitat and Yakima Counties, WA, Comment Period Ends: 09/12/2011, Contact: Hannah Dondy-Kaplan 503-230-4071.

EIS No. 20110236, Draft EIS, FTA, GA, Tier 1—Atlanta Beltline City of Atlanta, Proposed Fixed Guideway Transit and Multi-Use Trails System, Right-of-Way Preservation, Fulton County, GA, Comment Period Ends: 09/12/2011, Contact: Keith Melton 404-865-5600.

EIS No. 20110237, Final EIS, BLM, WY, Buckskin Mine Hay Creek II Project, Coal Lease Application WYW-172684, Wyoming Powder River Basin, Campbell County, WY, Review Period Ends: 08/29/2011, Contact: Teresa Johnson 307-261-7510.

EIS No. 20110238, Draft EIS, NPS, DC, Anacostia Park Wetland and Resident Goose Management Plan, To Guide and Direct the Actions of National Park Service (NPS) in the Management of Wetlands and Resident (non-migratory) Canada Geese at Anacostia Park, Implementation, Washington, DC, Comment Period Ends: 09/26/2011, Contact: Alex Romero 202-690-5197.

EIS No. 20110239, Draft EIS, BLM, 00, Gateway West Transmission Line Project, Proposed To Analyze the Effects of Authorizing the Proponents (Rocky Mountain Power and Idaho Power) to Construct and Operate the Gateway West Transmission Line Project, Application for Right-of-Way (ROW) Grants to Utilize Portions of National System of Public Lands and Special Use Permits to Utilize Portions of National Forest System Lands in Southern Wyoming, Southern Idaho and Possibly Northern Nevada, Comment Period Ends: 10/26/2011, Contact: Walter E. George 307-775-6116.

EIS No. 20110240, Draft EIS, NPS, AK, Denali Park Road and Preserve, Draft Vehicle Management Plan, Implementation, AK, Comment Period Ends: 09/30/2011, Contact: Miriam Valentine 907-733-9102.

EIS No. 20110241, Draft EIS, NNSA, NV, Site-Wide EIS—Continued Operation of the Department of Energy/National Nuclear Security Administration, Nevada National Security Site and Off-Site Location in Nevada, Comment Period Ends: 10/27/2011, Contact: Linda M. Cohn 702-295-0077.

EIS No. 20110242, Final EIS, BLM, CO, Over The River (OTR) Project, Propose to Install a Temporary Work of Art, Require the Use of Federal, Private and State Lands Adjacent to the River, Western Fremont County and Southeast Portion of Chaffee County, CO, Review Period Ends: 08/29/2011, Contact: Vincent Hopper 719-269-8555.

EIS No. 20110243, Draft EIS, FHWA, 00, Tier 1—National Highway System (NHS) Corridor, Propose to Develop an Improved Transportation Connecting (US-220) between I-68 and Corridor H, Grant, Hardy, Hampshire, Mineral Counties, WV and Allegany County, MD, Comment Period Ends: 10/14/2011, Contact: Greg Bailey 304-558-9722.

EIS No. 20110244, Draft EIS, FHWA, OR, US-97 Bend North Corridor Project, Propose to Improve a Segment of US-97 in Deschutes County, Oregon between the Deschutes Market Road/Tumalo Junction Interchange and the Empire Avenue Interchange, Deschutes County, OR, Comment Period Ends: 09/12/2011, Contact: Chris Bucher 503-399-5749.

Amended Notices

EIS No. 20110225, Final EIS, FHWA, TN, Interstate 55 Interchange at E.H. Crump Boulevard and South Boulevard Project, To Provide a Balanced Solution for Safety and Capacity Issues at the I55 Interchange, City of Memphis, Shelby County, TN, Review Period Ends: 08/22/2011, Contact: Charles J. O'Neill 615-781-5772.

Review to FR Notice 07/22/2011: Correction to Review Period End from 08/15/2011 to 08/22/2011.

EIS No. 20110228, Final EIS, FHWA, IN, I-69 Evansville to Indianapolis Tier 2 Section 4 Project, From U.S. 231 (Crane NSWC) to IN-37 South of Bloomington in Section 4, Greene and Monroe Counties, IN, Review Period Ends: 08/22/2011, Contact: Michelle Allen 317-226-7344.

Review to FR Notice 07/22/2011: Correction to Review Period End from 08/15/2011 to 08/22/2011.

EIS No. 20110231, Final EIS, BLM, NV, Salt Wells Energy Projects, Proposal for Three Separate Geothermal Energy and Transmission Projects, Implementation, Churchill County, NV, Review Period Ends: 08/22/2011, Contact: Colleen Sievers 775-885-6168.

Review to FR Notice 07/22/2011: Correction to Review Period End from 08/15/2011 to 08/22/2011.

EIS No. 20110234, Final EIS, FHWA, WI, US 41 Improvement Project, Extend from Depere—Suamico (Memorial Drive to County M), Brown County, WI, Review Period Ends: 08/22/2011, Contact: George Poirier 608-829-7500.

Review to FR Notice 07/22/2011: Correction to Review Period End from 08/15/2011 to 08/22/2011.

Dated: July 26, 2011.
Cliff Rader,
Acting Director, NEPA Compliance Division, Office of Federal Activities.

[FR Doc. 2011-19234 Filed 7-28-11; 8:45 am]

BILLING CODE 6560-50-P